DEPARTMENT OF ENERGY

Federal Energy Regulatory Commission

[Project No. 15240-000]

PacifiCorp; Notice of Preliminary Permit Application Accepted for Filing and Soliciting Comments, Motions To Intervene, and Competing Applications

On October 13, 2021, PacifiCorp filed an application for a preliminary permit, pursuant to section 4(f) of the Federal Power Act, proposing to study the feasibility of the Dry Canyon Pumped Storage Project (Dry Canyon Project or project) to be located on Mud Lake, near Saint Charles, Bear Lake County, Idaho. The sole purpose of a preliminary permit, if issued, is to grant the permit holder priority to file a license application during the permit term. A preliminary permit does not authorize the permit holder to perform any land-disturbing activities or otherwise enter upon lands or waters owned by others without the owners' express permission.

The proposed project would consist of the following: (1) A roller-compacted concrete dam with a height of 530 feet and a crest length of 2,900 feet; (2) a rock-armored earthen levee with an average height of 22 feet above the bottom of the Mud Lake and a length of 24,242 feet with two inlet/outlet structures; (3) an upper reservoir with a surface area of 182 acres and a storage volume of approximately 26,880 acre-feet; (4) three 22-foot-diameter, 6,650-foot-long concrete and steel penstocks; (5) a 660-foot-long and 110-foot-wide underground generating/pumping station chamber with six 300-megawatt generating/pumping units; (6) three 22-foot-diameter, 2,200-foot-long concrete-lined tailrace tunnels; (7) a lower reservoir with a surface area of 1,390 acres and a storage volume of 30,680 acre-feet; (8) a 500 kilovolt transmission line from the powerhouse to a new substation that would interconnect to PacifiCorp's existing or planned transmission lines; and, (9) appurtenant facilities. The estimated annual generation of the Dry Canyon Project would be 5.4 terawatt-hours.

Applicant Contact: Mark Stenberg, License Program Manager, PacifiCorp, 822 Grace Power Plant Rd., Grace, ID 83241; email: mark.stenberg@pacificorp.com; phone: (208) 339-9552.

FERC Contact: Ryan Hansen; email: ryan.hansen@ferc.gov; phone: (202) 502-8074.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15240-000.

More information about this project, including a copy of the application, can be viewed or printed on the “eLibrary” link of Commission's website at http://www.ferc.gov/docs-filing/elibrary.asp. Enter the docket number (P-15420) in the docket number field to access the document. For assistance, contact FERC Online Support.

Dated: October 21, 2021.
Debbie-Anne A. Reese,
Deputy Secretary.

[FR Doc. 2021-23419 Filed 10-26-21; 8:45 am]

BILLING CODE 6717-01-P